DEPARTMENT OF THE INTERIOR

National Park Service

[NPS-NER-GATE-14483; PPNEGATE00/PMP00UP05.YP0000, PX.P0075604H.00.1]

General Management Plan, Final Environmental Impact Statement, Gateway National Recreation Area, New Jersey and New York

AGENCY: National Park Service, Interior.

ACTION: Notice of Availability.

SUMMARY: Pursuant to the National Environmental Policy Act of 1969, 42 U.S.C. 4332(2)(C), the National Park Service (NPS) is releasing a Final Environmental Impact Statement for the General Management Plan (Final GMP/EIS), Gateway National Recreation Area (Gateway), New York. When approved, the plan will provide guidance to park management for administration, development, and interpretation of park resources over the next 20 years. The NPS preferred alternative incorporates various management prescriptions to ensure access to and protection and enjoyment of Gateway's resources.

The Final GMP/EIS responds to, and incorporates, agency and public comments received on the Draft GMP/EIS, which was available for public and agency review from August 2, 2013 through October 22, 2013. Copies of the Draft GMP/EIS were available at the park, by request, and on the NPS Planning, Environment, and Public Comment Web site http://parkplanning.nps.gov/gate. Public meetings were held on August 20-22, 2013; September 10, 2013; and September 12, 2013. Agency and public comments with NPS responses are provided in Chapter 6: Comments and Responses to Comments on the Draft Plan of the Final GMP/EIS.

DATES: The NPS will prepare a Record of Decision (ROD) no sooner than 30 days following publication by the Environmental Protection Agency of the Notice of Availability of the Final GMP/EIS in the Federal Register.

ADDRESSES: Electronic copies of the Final EIS/GMP will be available for public review at http://parkplanning.nps.gov/gate. A limited number of printed copies will be available upon request by contacting the Superintendent's office.

FOR FURTHER INFORMATION CONTACT: Superintendent Jennifer Nersesian, Gateway National Recreation Area, 210 New York Avenue, Staten Island, New York 10305 or telephone at (718) 354-4664.

SUPPLEMENTARY INFORMATION: The document describes the no-action alternative and two action alternatives for future management of Gateway, the environment that would be affected by the alternative management actions, and the environmental consequences of implementing the alternatives.

Alternative A is a continuation of current management and trends. The park's enabling legislation and current GMP would continue to guide park management. Gateway would manage park resources and visitor use as it does today, with no major change in direction.

Alternative B is the NPS Preferred Alternative. This alternative provides the widest range of activities and most recreation opportunities in dispersed locations throughout the park. New connections would be forged with park lands and communities adjacent to Gateway and nearby. This alternative offers the most instructional programming and skills development and draws people into the park to increase awareness and enjoyment of Gateway's historic resources and the natural environment. Alternative C provides the most opportunities for independent exploration and experiences that immerse visitors into natural areas, historic sites, and landscapes. This alternative increases the visibility, enjoyment, and protection of coastal resources and highlights preservation efforts as part of interpretation and education activities and promotes hands-on learning and outdoor skills.

Dated: March 24, 2014.
Michael Caldwell,
Regional Director, Northeast Region, National Park Service.

[FR Doc. 2014-11753 Filed 5-20-14; 8:45 am]

BILLING CODE 4310-WV-P